ENVIRONMENTAL PROTECTION AGENCY

[FRL-9767-7; CERCLA-04-2013-3752]

Leonard Chemical Superfund Site; Catawba, York County, SC; Notice of Settlement

AGENCY: Environmental Protection Agency.

ACTION: Notice of settlement.

SUMMARY: Under 122(h)(1) of the Comprehensive Environmental Response, Compensation and Liability Act (CERCLA), the United States Environmental Protection Agency has entered into a settlement to recover outstanding cost from three parties who did not participate in a previous Consent Decree to perform a Remedial Action at the Leonard Chemical Superfund Site located in Catawba, York County, South Carolina.

DATES: The Agency will consider public comments on the settlement until February 4, 2013. The Agency will consider all comments received and may modify or withdraw its consent to the settlement if comments received disclose facts or considerations which indicate that the settlement is inappropriate, improper, or inadequate.

ADDRESSES: Copies of the settlement are available from Ms. Paula V. Painter. Submit your comments by Site name Leonard Chemical Superfund Site by one of the following methods:

• www.epa.gov/region4/superfund/programs/enforcement/enforcement.html

• Email. Painter.Paula@epa.gov

• U.S. Environmental Protection Agency, 61 Forsyth Street SW., Atlanta, Georgia 30303.

FOR FURTHER INFORMATION CONTACT: Paula V. Painter at 404/562-8887.

Dated: December 7, 2012.
Anita L. Davis,
Chief, Superfund Enforcement & Information Management Branch, Superfund Division.

[FR Doc. 2012-31731 Filed 1-3-13; 8:45 am]

BILLING CODE 6560-50-P